NUCLEAR REGULATORY COMMISSION

[Docket No. 50-331; NRC-2010-0048]

FPL Energy Duane Arnold, LLC; Notice of Availability of the Draft Supplement 42 to the Generic Environmental Impact Statement for License Renewal of Nuclear Plants, and Public Meeting for the License Renewal of Duane Arnold Energy Center

Notice is hereby given that the U.S. Nuclear Regulatory Commission (NRC or Commission) has published a draft plant-specific supplement 42 to the Generic Environmental Impact Statement for License Renewal of Nuclear Plants (GEIS), NUREG-1437, “Generic Environmental Impact Statement for License Renewal of Nuclear Plants,” regarding the renewal of Operating License No. DPR-49 for an additional 20 years of operation for Duane Arnold Energy Center (DAEC). DAEC is located near Cedar Rapids, Iowa. Potential alternatives to the proposed action (license renewal) include no action and reasonable alternative energy sources.

The draft Supplement 42 to the GEIS is publicly available at the NRC Public Document Room (PDR), located at One White Flint North, 11555 Rockville Pike, Rockville, Maryland 20852, or from the NRC's Agencywide Documents Access and Management System (ADAMS). The ADAMS Public Electronic Reading Room is accessible at http://adamswebsearch.nrc.gov/dologin.htm. The ADAMS Accession Number for the draft Supplement 42 to the GEIS is ML100310027. Persons who do not have access to ADAMS, or who encounter problems in accessing the documents located in ADAMS, should contact the NRC's PDR reference staff by telephone at 1-800-397-4209, or 301-415-4737, or by e-mail at pdr.resource@nrc.gov. In addition, the Hiawatha Public Library, located at 150 West Willman Street, Hiawatha, Iowa, has agreed to make the draft supplement available for public inspection.

Any interested party may submit comments on the draft supplement to the GEIS for consideration by the NRC staff. To be considered, comments on the draft supplement to the GEIS and the proposed action must be received by April 19, 2010; the NRC staff is able to ensure consideration only for comments received on or before this date. Comments received after the due date will be considered only if it is practical to do so. Written comments on the draft supplement to the GEIS should be sent to: Chief, Rulemaking and Directives Branch, Division of Administrative Services, Office of Administration, Mailstop T-6D59, U.S. Nuclear Regulatory Commission, Washington, DC 20555-0001.

Electronic comments may be submitted to the NRC by e-mail at DuaneArnoldEIS@nrc.gov. All comments received by the Commission, including those made by Federal, State, local agencies, Native American Tribes, or other interested persons, will be made available electronically at the Commission's PDR in Rockville, Maryland, and through ADAMS.

The NRC staff will hold a public meeting to present an overview of the draft plant-specific supplement to the GEIS and to accept public comments on the document. The public meeting will be held on March 31, 2010 at the Hiawatha City Hall at 101 Emmons Street, Hiawatha, Iowa 52233. There will be two sessions to accommodate interested parties. The first session will convene at 1:30 p.m. and will continue until 4:30 p.m., as necessary. The second session will convene at 7 p.m. with a repeat of the overview portions of the meeting and will continue until 10 p.m., as necessary. Both meetings will be transcribed and will include: (1) a presentation of the contents of the draft plant-specific supplement to the GEIS, and (2) the opportunity for interested government agencies, organizations, and individuals to provide comments on the draft report. Additionally, the NRC staff will host informal discussions one hour prior to the start of each session at the same location. No comments on the draft supplement to the GEIS will be accepted during the informal discussions. To be considered, comments must be provided either at the transcribed public meeting or in writing. Persons may pre-register to attend or present oral comments at the meeting by contacting Mr. Charles Eccleston, the Environmental Project Manager at 1-800-368-5642, extension 8537, or by e-mail at Charles.Eccleston@nrc.gov, no later than March 24, 2010. Members of the public may also register to provide oral comments within 15 minutes of the start of each session. Individual oral comments may be limited by the time available, depending on the number of persons who register. If special equipment or accommodations are needed to attend or present information at the public meeting, the need should be brought to Mr. Eccleston's attention no later than March 24, 2010, to provide the NRC staff adequate notice to determine whether the request can be accommodated.

For Further Information Contact: Mr. Charles Eccleston, Projects Branch 1, Division of License Renewal, Office of Nuclear Reactor Regulation, U.S. Nuclear Regulatory Commission, Mail Stop O-11F1, Washington, DC 20555-0001. Mr. Eccleston may also be contacted at the aforementioned telephone number or e-mail address.

Dated at Rockville, Maryland, this 4th day of February, 2010.
For the Nuclear Regulatory Commission.
Brian E. Holian,
Director, Division of License Renewal, Office of Nuclear Reactor Regulation.

[FR Doc. 2010-2974 Filed 2-9-10; 8:45 am]

BILLING CODE 7590-01-P